DEPARTMENT OF HEALTH AND HUMAN SERVICES

Meeting of the Advisory Committee on Blood Safety and Availability

AGENCY: Department of Health and Human Services, Office of the Secretary.

ACTION: Notice of meeting.

SUMMARY: The Advisory Committee on Blood Safety and Availability will meet to review progress and solicit additional comments from the Committee regarding numerous recommendations made over the past year. Specifically, the Committee will hear updates and discuss previous recommendations on Transfusion Related Acute Lung Injury (TRALI) and access to treatment for individuals with rare blood disorders. The Committee will also review the progress made by the AABB (formerly known as the American Association of Blood Banks) Task Force on Bacterial Contamination to identify potential studies to standardize, validate, and determine the predictive value of bacterial testing with the intent to extend the dating of platelet products from five to seven days and the possible pre-storage pooling of whole blood derived platelets. Centers for Medicare and Medicaid Services (CMS) reimbursement issues related to blood and blood products, including plasma-derived therapeutics and their recombinant analogs will be reviewed. In addition, the Committee will be asked to discuss/comment on strategies for addressing infectious agents (known or emerging) that potentially could affect the blood supply.

DATES: The meeting will take place Tuesday, January 25, 2005 and Wednesday, January 26, 2005 from 8 a.m. to 5 p.m. The meeting will be open to the public after 9 a.m. on the first day.

ADDRESSES: Bethesda North Marriott Hotel and Conference Center, 5701 Marinelli Road, North Bethesda, Maryland 20852 (301-984-0004). Please note that this is a change in location from the previous two meetings.

FOR FURTHER INFORMATION CONTACT: Jerry A. Holmberg, Ph.D., Executive Secretary, Advisory Committee on Blood Safety and Availability, Office of Public Health and Science, Department of Health and Human Services, 1101 Wootton Parkway, Room 250, Rockville, MD 20852 (301) 443-4741, FAX (301) 443-4788, e-mail jholmberg@osophs.dhhs.gov.

SUPPLEMENTARY INFORMATION: Public comment will be solicited at the meeting and will be limited to five minutes per speaker. Anyone planning to comment is encouraged to contact the Executive Secretary at his/her earliest convenience. Those who wish to have printed material distributed to Advisory Committee members should submit thirty (30) copies to the Executive Secretary prior to close of business January 21, 2005. Likewise, those who wish to utilize electronic data projection to the Committee must submit their materials to the Executive Secretary prior to close of business January 21, 2005.

Dated: December 16, 2004.
Jerry A. Holmberg,
Executive Secretary, Advisory Committee on Blood Safety and Availability.

[FR Doc. 04-27870 Filed 12-20-04; 8:45 am]

BILLING CODE 4150-28-P